DEPARTMENT OF AGRICULTURE

Agricultural Marketing Service

[Doc. No.: AMS-DA-11-0087; DA-11-05]

RIN 0581-0110

Request for an Extension to a Currently Approved Information Collection for the Regulations Governing the Inspection and Grading of Manufactured or Processed Dairy Products—Recordkeeping (Subpart B)

AGENCY: Agricultural Marketing Service, USDA.

ACTION: Request for comments.

SUMMARY: In accordance with the Paperwork Reduction Act of 1995 (44 U.S.C. Chapter 35), this document announces the Agricultural Marketing Service's (AMS) intention to request approval from the Office of Management and Budget, for an extension of a revision to the currently approved information collection for the Regulations Governing the Inspection and Grading of Manufactured or Processed Dairy Products—Recordkeeping (Subpart B).

DATES: Comments on this document must be received by December 27, 2011.

ADDRESSES: Interested persons are invited to submit comments concerning this information collection document. Comments should be submitted online at http://www.regulations.gov or sent to Evan J. Stachowicz, Dairy Standardization Branch, Dairy Programs, Agricultural Marketing Service, U.S. Department of Agriculture, Room 2746-South Building, 1400 Independence Avenue, SW., Washington, DC 20250-0230; Telephone: (202) 720-9385, Fax: (202) 720-2643. All comments should reference the document number (AMS-DA-11-0087; DA-11-08), the date and page number of this issue of the Federal Register. All comments received will be posted without change, including any personal information provided, online at http://www.regulations.gov and will be made available for public inspections at the above physical address during normal business hours.

FOR FURTHER INFORMATION CONTACT: Evan J. Stachowicz, at the above physical address or by telephone (202) 720-9385, by e-mail at Evan.Stachowicz@ams.usda.gov.

SUPPLEMENTARY INFORMATION: Title: Regulations Governing the Inspection and Grading of Manufactured or Processed Dairy Products—Recordkeeping (Subpart B).

OMB Number: 0581-0110.

Expiration Date of Approval: March 31, 2012

Type of Request: Extension of a currently approved information collection.

Abstract: The Agricultural Marketing Act (AMA) of 1946 (7 U.S.C. 1621 et seq.) directs the Department to develop programs which will provide for and facilitate the marketing of agricultural products. One of these programs is the USDA voluntary inspection and grading program for dairy products (7 CFR Part 58) where these dairy products are graded according to U.S. grade standards by a USDA grader. The dairy products under the dairy program may be identified with the USDA grade mark. Dairy processors, buyers, retailers, institutional users, and consumers have requested that such a program be developed to assure the uniform quality of dairy products purchased. In order for any service program to perform satisfactorily, there are regulations for the provider and user. For these reasons, the dairy inspection and grading program regulations were developed and issued under the authority of the AMA. These regulations are essential to administering the program and meeting the needs of the users.

The information collection requirements in this request are needed to ensure that dairy products are produced under sanitary conditions and buyers are purchasing a quality product. In order for the Regulations governing the Inspection and Grading of Manufactured or Processed Dairy Products to serve the government, industry, and the consumer, laboratory test results must be recorded.

Respondents are not required to submit information to the agency. The records are to be evaluated by a USDA inspector at the time of an inspection. These records include quality tests of each producer, plant records of required tests and analysis, and starter and cheese make records. As an offsetting benefit, the records required by USDA are also records that are routinely used by the inspected facility for their own supervisory and quality control purposes.

Estimate of Burden: Public reporting burden for this collection of information is estimated to average 2.85 hours per response.

Respondents: Dairy products manufacturing facilities.

Estimated Number of Respondents: 487.

Estimated Number of Responses: 1388.

Estimated Number of Responses per Respondent: 2.85.

Estimated Total Annual Burden on Respondents: 3956.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Evan J. Stachowicz, 1400 Independence Avenue, SW., Room 2746—South, Washington, DC 20250-0230. All comments received will be available for public inspection during regular business hours at the same address.

All responses to this notice will be summarized and included in the request for OMB approval. All comments will become a matter of public record.

Dated: October 21, 2011.
David R. Shipman,
Acting Administrator, Agricultural Marketing Service.

[FR Doc. 2011-27767 Filed 10-26-11; 8:45 am]

BILLING CODE 3410-02-P